DEPARTMENT OF ENERGY

Federal Energy Regulatory Commission

Combined Notice of Filings

Take notice that the Commission has received the following Natural Gas Pipeline Rate and Refund Report filings:

Filings Instituting Proceedings

Docket Numbers: RP17-780-000.

Applicants: Gulfstream Natural Gas System, L.L.C.

Description: § 4(d) Rate Filing: Name Change Cleanup Filing to be effective7/1/2017.

Filed Date: 5/31/17.

Accession Number: 20170531-5015.

Comments Due: 5 p.m. ET 6/12/17.

Docket Numbers: RP17-781-000.

Applicants: Southeast Supply Header, LLC.

Description: § 4(d) Rate Filing: Name Change and Contact Cleanup to be effective 7/1/2017.

Filed Date: 5/31/17.

Accession Number: 20170531-5021.

Comments Due: 5 p.m. ET 6/12/17.

Docket Numbers: RP17-782-000.

Applicants: Texas Gas Transmission, LLC.

Description: § 4(d) Rate Filing: Neg Rate Agmts Filing (Indianapolis P&L 34016, 34017) to be effective 6/1/2017.

Filed Date: 5/31/17.

Accession Number: 20170531-5026.

Comments Due: 5 p.m. ET 6/12/17.

Docket Numbers: RP17-783-000.

Applicants: Texas Gas Transmission, LLC.

Description: § 4(d) Rate Filing: Cap Rel Neg Rate Agmt (Gulfport 35446 to BP 36341) to be effective 6/1/2017.

Filed Date: 5/31/17.

Accession Number: 20170531-5027.

Comments Due: 5 p.m. ET 6/12/17.

Docket Numbers: RP17-784-000.

Applicants: Texas Gas Transmission, LLC.

Description: § 4(d) Rate Filing: Cap Rel Neg Rate Agmts (RE Gas 34955, 35433 to BP 36347, 36346) to be effective 6/1/2017.

Filed Date: 5/31/17.

Accession Number: 20170531-5028.

Comments Due: 5 p.m. ET 6/12/17.

Docket Numbers: RP17-785-000.

Applicants: Gulf South Pipeline Company, LP.

Description: § 4(d) Rate Filing: Cap Rel Neg Rate Agmts (Atlanta 8438 to various eff 6-1-2017) to be effective6/1/2017.

Filed Date: 5/31/17.

Accession Number: 20170531-5035.

Comments Due: 5 p.m. ET 6/12/17.

Docket Numbers: RP17-786-000.

Applicants: Gulf South Pipeline Company, LP.

Description: § 4(d) Rate Filing: Cap Rel Neg Rate Agmts (Encana 37663 to Texla 48240, Spotlight 48242) to be effective 6/1/2017.

Filed Date: 5/31/17.

Accession Number: 20170531-5038.

Comments Due: 5 p.m. ET 6/12/17.

Docket Numbers: RP17-787-000.

Applicants: MarkWest Pioneer, L.L.C.

Description: § 4(d) Rate Filing: Quarterly FRP Filing to be effective7/1/2017.

Filed Date: 5/31/17.

Accession Number: 20170531-5079.

Comments Due: 5 p.m. ET 6/12/17.

Docket Numbers: RP17-788-000.

Applicants: Enable Gas Transmission, LLC.

Description: § 4(d) Rate Filing: Negotiated Rate Filing—June 2017 XTO 1010983 to be effective 6/1/2017.

Filed Date: 5/31/17.

Accession Number: 20170531-5112.

Comments Due: 5 p.m. ET 6/12/17.

Docket Numbers: RP17-789-000.

Applicants: Northern Natural Gas Company.

Description: § 4(d) Rate Filing: 2017 Negotiated Rates to be effective6/1/2017.

Filed Date: 5/31/17.

Accession Number: 20170531-5115.

Comments Due: 5 p.m. ET 6/12/17.

Docket Numbers: RP17-790-000.

Applicants: Transcontinental Gas Pipe Line Company.

Description: § 4(d) Rate Filing: Negotiated Rates—Cherokee AGL—Replacement Shippers—Jun 2017 to be effective 6/1/2017.

Filed Date: 5/31/17.

Accession Number: 20170531-5128.

Comments Due: 5 p.m. ET 6/12/17.

Docket Numbers: RP17-791-000.

Applicants: Dominion Energy Questar Pipeline, LLC.

Description: § 4(d) Rate Filing: Pt. 3 Sec. 16.4 Version 2.0.0—Conditioning Reimbursement Factor to be effective7/1/2017.

Filed Date: 5/31/17.

Accession Number: 20170531-5165.

Comments Due: 5 p.m. ET 6/12/17.

Docket Numbers: RP17-792-000.

Applicants: Florida Gas Transmission Company, LLC.

Description: § 4(d) Rate Filing: Negotiated Rates Filing on 5-31-17 to be effective 6/1/2017.

Filed Date: 5/31/17.

Accession Number: 20170531-5181.

Comments Due: 5 p.m. ET 6/12/17.

Docket Numbers: RP17-793-000.

Applicants: Rover Pipeline LLC.

Description: § 4(d) Rate Filing: Housekeeping to be effective 7/1/2017.

Filed Date: 5/31/17.

Accession Number: 20170531-5185.

Comments Due: 5 p.m. ET 6/12/17.

Docket Numbers: RP17-794-000.

Applicants: Ruby Pipeline, L.L.C.

Description: § 4(d) Rate Filing: EPC and FL&U Update to be effective7/1/2017.

Filed Date: 5/31/17.

Accession Number: 20170531-5186.

Comments Due: 5 p.m. ET 6/12/17.

Docket Numbers: RP17-795-000.

Applicants: MarkWest New Mexico, L.L.C.

Description: § 4(d) Rate Filing: Ministerial Filing to Update Contact Information to be effective 7/1/2017.

Filed Date: 5/31/17.

Accession Number: 20170531-5188.

Comments Due: 5 p.m. ET 6/12/17.

Docket Numbers: RP17-796-000.

Applicants: Gulf South Pipeline Company, LP.

Description: § 4(d) Rate Filing: Superseding Amendment to Neg Rate Agmt (FPL 41619-13) to be effective4/1/2017.

Filed Date: 5/31/17.

Accession Number: 20170531-5204.

Comments Due: 5 p.m. ET 6/12/17.

Docket Numbers: RP17-797-000.

Applicants: Colorado Interstate Gas Company, L.L.C.

Description: § 4(d) Rate Filing: LUF Quarterly Filing to be effective7/1/2017.

Filed Date: 5/31/17.

Accession Number: 20170531-5272.

Comments Due: 5 p.m. ET 6/12/17.

Docket Numbers: RP17-798-000.

Applicants: Northern Natural Gas Company.

Description: § 4(d) Rate Filing: 20170531 Title Change Filing to be effective 6/1/2017.

Filed Date: 5/31/17.

Accession Number: 20170531-5279.

Comments Due: 5 p.m. ET 6/12/17.

Docket Numbers: RP17-799-000.

Applicants: El Paso Natural Gas Company, L.L.C.

Description: § 4(d) Rate Filing: Non-Conforming Agreement Update (SRP) to be effective 6/1/2017.

Filed Date: 5/31/17.

Accession Number: 20170531-5326.

Comments Due: 5 p.m. ET 6/12/17.

Docket Numbers: RP17-800-000.

Applicants: Southern Star Central Gas Pipeline, Inc.

Description: § 4(d) Rate Filing: Vol 2—Negotiated and Non-Conforming Flexible Park & Loan—Tenaska to be effective 6/1/2017.

Filed Date: 5/31/17.

Accession Number: 20170531-5342.

Comments Due: 5 p.m. ET 6/12/17.

Docket Numbers: RP17-801-000.

Applicants: Kern River Gas Transmission Company.

Description: § 4(d) Rate Filing: 2017 Update Title Pages to be effective6/1/2017.

Filed Date: 6/1/17.

Accession Number: 20170601-5000.

Comments Due: 5 p.m. ET 6/13/17.

Docket Numbers: RP17-802-000.

Applicants: Equitrans, L.P.

Description: § 4(d) Rate Filing: Negotiated Capacity Release Agreements—6/1/17 to be effective6/1/2017.

Filed Date: 6/1/17.

Accession Number: 20170601-5008.

Comments Due: 5 p.m. ET 6/13/17.

Docket Numbers: RP17-803-000.

Applicants: Gulf South Pipeline Company, LP.

Description: § 4(d) Rate Filing: Amendments to Neg Rate Agmts (Southern 41616, 41617) to be effective 6/1/2017.

Filed Date: 6/1/17.

Accession Number: 20170601-5011.

Comments Due: 5 p.m. ET 6/13/17.

Docket Numbers: RP17-804-000.

Applicants: Tennessee Gas Pipeline Company, L.L.C.

Description: § 4(d) Rate Filing: Volume No. 2 Seneca Resources SP 97126 Exhibit A Amendment to be effective 7/1/2017.

Filed Date: 6/1/17.

Accession Number: 20170601-5082.

Comments Due: 5 p.m. ET 6/13/17.

Docket Numbers: RP17-805-000.

Applicants: Kinder Morgan Louisiana Pipeline LLC.

Description: Period Rate Adjustment Filing of Kinder Morgan Louisiana Pipeline LLC.

Filed Date: 5/31/17.

Accession Number: 20170531-5367.

Comments Due: 5 p.m. ET 6/12/17.

Docket Numbers: RP17-806-000.

Applicants: Discovery Gas Transmission LLC.

Description: Fuel, Lost and Unaccounted For Gas Retention Rate Report of Discovery Gas Transmission LLC.

Filed Date: 5/31/17.

Accession Number: 20170531-5369.

Comments Due: 5 p.m. ET 6/12/17.

Docket Numbers: RP17-807-000.

Applicants: Alliance Pipeline L.P.

Description: § 4(d) Rate Filing: Negotiated Rate Filing PAL June 2017 to be effective 6/1/2017.

Filed Date: 6/1/17.

Accession Number: 20170601-5118

Comments Due: 5 p.m. ET 6/13/17.

Docket Numbers: RP17-808-000.

Applicants: Algonquin Gas Transmission, LLC.

Description: § 4(d) Rate Filing: AFT-E and AFT-ES Filing to Update Tariff Language to be effective 8/1/2017.

Filed Date: 6/1/17.

Accession Number: 20170601-5120.

Comments Due: 5 p.m. ET 6/13/17.

Docket Numbers: RP17-809-000.

Applicants: Dauphin Island Gathering Partners.

Description: § 4(d) Rate Filing: Negotiated Rate Filing 6-1-2017 to be effective 6/1/2017.

Filed Date: 6/1/17.

Accession Number: 20170601-5156.

Comments Due: 5 p.m. ET 6/13/17.

Docket Numbers: RP17-810-000.

Applicants: Dominion Energy Carolina Gas Transmission.

Description: § 4(d) Rate Filing: DECG—Baseline Filing of FERC Gas Tariff, Fourth Revised Volume Nos. 1 and 1.1 to be effective 6/1/2017.

Filed Date: 6/1/17.

Accession Number: 20170601-5182.

Comments Due: 5 p.m. ET 6/13/17.

Docket Numbers: RP17-811-000.

Applicants: Peregrine Oil & Gas II, LLC v. Texas Eas.

Description: Formal Complaint of Peregrine Oil & Gas II, LLC.

Filed Date: 6/1/17.

Accession Number: 20170601-5183.

Comments Due: 5 p.m. ET 6/13/17.

Docket Numbers: RP17-812-000.

Applicants: Dominion Energy Cove Point LNG, LP.

Description: § 4(d) Rate Filing: DECP—Baseline Filing of FERC Gas Tariff, Second Revised Volume No. 1 to be effective 6/1/2017.

Filed Date: 6/1/17.

Accession Number: 20170601-5206.

Comments Due: 5 p.m. ET 6/13/17.

Docket Numbers: RP17-813-000.

Applicants: Empire Pipeline, Inc.

Description: § 4(d) Rate Filing: Negotiated Rate Change to be effective 7/3/2017.

Filed Date: 6/1/17.

Accession Number: 20170601-5211.

Comments Due: 5 p.m. ET 6/13/17.

Docket Numbers: RP17-814-000.

Applicants: Dominion Energy Transmission, Inc.

Description: § 4(d) Rate Filing: DETI—Baseline Filing of FERC Gas Tariff, Volume Nos. 1, 1B, and 2 to be effective 6/1/2017.

Filed Date: 6/1/17.

Accession Number: 20170601-5215.

Comments Due: 5 p.m. ET 6/13/17.

Docket Numbers: RP17-815-000.

Applicants: Dominion Energy Cove Point LNG, LP.

Description: Tariff Cancellation: DECP—Cancellation of First Revised Volume No. 1 to be effective 6/1/2017.

Filed Date: 6/1/17.

Accession Number: 20170601-5230.

Comments Due: 5 p.m. ET 6/13/17.

Docket Numbers: RP17-816-000.

Applicants: Dominion Energy Carolina Gas Transmission.

Description: Tariff Cancellation: DECG—Cancellation of Third Revised Volume Nos. 1 and 1.1 to be effective6/1/2017.

Filed Date: 6/1/17.

Accession Number: 20170601-5231.

Comments Due: 5 p.m. ET 6/13/17.

Docket Numbers: RP17-817-000.

Applicants: ANR Pipeline Company.

Description: § 4(d) Rate Filing: CNE Gas Supply Neg Rate Agmts to be effective 6/1/2017.

Filed Date: 6/1/17.

Accession Number: 20170601-5232.

Comments Due: 5 p.m. ET 6/13/17.

Docket Numbers: RP17-818-000.

Applicants: Dominion Energy Transmission, Inc.

Description: Tariff Cancellation: DETI—Cancellation of FERC Gas Tariff, Volume Nos. 1, 1A, 1B, and 2 to be effective 6/1/2017.

Filed Date: 6/1/17.

Accession Number: 20170601-5248.

Comments Due: 5 p.m. ET 6/13/17.

Docket Numbers: RP17-819-000.

Applicants: Sabal Trail Transmission, LLC.

Description: § 4(d) Rate Filing: Negotiated rate and Non-Conforming—FPL—850001 to be effective 7/1/2017.

Filed Date: 6/1/17.

Accession Number: 20170601-5262.

Comments Due: 5 p.m. ET 6/13/17.

Docket Numbers: RP17-820-000.

Applicants: Northern Natural Gas Company.

Description: § 4(d) Rate Filing: 20170501 MERC Non-Conforming to be effective 11/1/2017.

Filed Date: 6/1/17.

Accession Number: 20170601-5287.

Comments Due: 5 p.m. ET 6/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2017.
Kimberly D. Bose,
Secretary.

[FR Doc. 2017-12167 Filed 6-12-17; 8:45 am]

BILLING CODE 6717-01-P